DEPARTMENT OF LABOR

Employment and Training Administration

Notice of Availability of Funds and Solicitation for Grant Applications (SGA) for Youthful Offender Registered Apprenticeship, Alternative Education, and Project Expansion Grants

AGENCY: Employment and Training Administration, U.S. Department of Labor.

Announcement Type: Notice of Solicitation for Grant Applications.

Funding Opportunity Number: SGA/DFA PY 06-10.

Catalog Federal Assistance Number: 17.261.

SUMMARY: The Employment and Training Administration announces the availability of approximately $20 million for Youthful Offender Grants. These grants will be awarded through a competitive process for three categories of projects—(1) Registered Apprenticeship (to increase the placement of young adults being released from the criminal justice system in registered apprenticeship); (2) Alternative Educational Pathways (to increase the educational achievement and attainment of youth in the juvenile justice system); and (3) Project Expansion (to replicate effective programs for serving juvenile offenders). Applicants can apply for grants in more than one of these categories, but separate applications must be submitted for each category.

This solicitation provides background information and describes the application submission requirements, outlines the process that eligible entities must use to apply for funds covered by this solicitation, and outlines the evaluation criteria used as a basis for selecting the grantees.

DATES: Key Dates: The closing date for receipt of applications under this announcement is May 31, 2007. Application and submission information is explained in detail in Part IV of this SGA. There will be a Prospective Applicant Webinar held for this grant competition. The date and access information for this Prospective Applicant Webinar will be posted on ETA's Web site at www.doleta.gov/youth_services.

ADDRESSES: Applications that do not meet the conditions set forth in this notice will not be considered. No exceptions to the submission requirements set forth in this notice will be granted. For detailed guidance, please refer to Section IV.C.

SUPPLEMENTARY INFORMATION: This solicitation consists of eight parts:

Part I provides a description of this funding opportunity.

Part II describes the size and nature of the anticipated awards.

Part III describes eligibility information.

Part IV provides information on the application and submission process.

Part V describes the criteria against which applications will be reviewed and explains the proposal review process.

Part VI provides award administration information.

Part VII contains DOL agency contact information.

Part VIII lists additional resources of interest to applicants and other information.

I. Funding Opportunity Description

Over the next decade, the percentage of workers between the ages of 16 and 24 is expected to grow more rapidly than the overall workforce. The 21st century economic landscape is rapidly changing with technology and globalization altering the nature of work and the skills and training needed by workers to compete in this new reality. Ninety percent of the fastest growing jobs in the United States today require post-secondary education. Therefore, the rapidly growing youth labor force is emerging at a time where advanced education, skills, and abilities have a heightened importance in preparing the talent employers will need to populate their workforce.

This issue has significant impact on the economic development of communities, states, and regional economies and in particular relates to ETA's WIRED framework, which recognizes the role of talent development strategies in driving economic growth and job creation within regional economies. For regional economies to grow successfully, youth strategies need to be fully integrated with a region's talent development strategies in support of economic growth. The workforce investment system plays a vital role in addressing the need to develop deep talent pools of young workers who serve as a “youth supply pipeline” to help drive regional economic growth.

The overarching goal for this solicitation is to improve the long-term career prospects of young offenders by increasing both the educational attainment of juvenile offenders and the employment outcomes of young adult offenders. Both youth in the juvenile justice system and adults in the criminal justice system face severe educational and labor market barriers. The White House Task Force for Disadvantaged Youth notes that illiteracy and school failure are serious and widespread among youth in detention, correctional, and shelter facilities, with such youth typically scoring between grades 5 and 7 in reading and between grades 5 and 9 in math. An American Bar Association Report notes that the percentage of youth in juvenile correctional facilities who were served in special education programs prior to their incarceration is at least three to five times the percentage of the general public school population identified as learning disabled.

Court-involved youth are predominantly male and disproportionately minority youth. In 2000, minority youth made up about 32 percent of the U.S. population, but 58 percent of youth in juvenile facilities. African American youth under age 18 make up 15 percent of the youth population, but 26 percent of all juvenile arrests and 44 percent of the detained population.

Multiple risk factors and events converge in the lives of young people and put them at high risk for coming into contact with the justice system. The Department of Justice (DOJ) collects data on youth offenders and adjudicated youth both through research studies and reports from the state corrections departments. One study by DOJ's Office of Juvenile Justice and Delinquency Prevention (OJJDP) that surveyed administrators at public and private detention centers and training schools found that 75 percent of the offenders come from families affected by problems such as divorce and separation, 52 percent showed signs of depression, and 51 percent appeared to have been abused by a parent or adult. Mental illness is also especially high among youth offenders. Studies estimate that 80 percent of youth in the juvenile justice system have a diagnosable mental health disorder and many also suffer from co-occurring substance abuse disorders.

Adults in the criminal justice system have similarly low levels of educational achievement and attainment. An estimated 19 percent of adult state prisoners are completely illiterate and 40 percent are functionally illiterate; over half of state parole entrants are not high school graduates; and as many as eleven percent have only an eighth grade education or less. These low levels of educational achievement and attainment are steep barriers to employment when released prisoners return home. The unemployment rate among ex-prisoners has been estimated between 25 and 40 percent.

To help address these problems the Department of Labor will award grants under this announcement for youthful offender projects to improve the employment prospects of youth and young adults in the criminal justice system. Funds will be awarded for three categories of projects—(1) increasing the placement of young adults being released from the criminal justice system in registered apprenticeships; (2) increasing the educational achievement and attainment of youth in the juvenile justice system; and (3) replicating effective programs for serving young juvenile offenders. Successful grantees in all three categories will have strong collaborations with business and industry, other education institutions, and the workforce investment system at a minimum.

A. Registered Apprenticeship

The goal of this initiative is to develop and register new apprenticeship programs to serve offenders that begin during their period of incarceration. A Registered Apprenticeship is a nationally registered program overseen by the U.S. Department of Labor Office of Apprenticeship working in conjunction with state Apprenticeship Coordinators. Apprenticeship is full-time employment combined with both on-the-job training and related classroom instruction. An experienced and skilled journey worker teaches the practical skills learned on the job. Apprenticeship is based on a written agreement between the apprentice and the sponsor that stipulates the terms of the apprenticeship, such as length of training, credit for previous experience or education, increasing scale of wages, and method of education.

Applicants will develop a registered apprenticeship model that targets offenders between the ages of 18 and 24 housed in state adult correctional facilities. Requirements for this program are described in section V.A.3. of this notice. The registered apprenticeship training started under this grant is expected to be one unified program that begins within the correctional facility and continues uninterrupted post-release. The portion of the Registered Apprenticeship program participation within the correctional facility should represent no less than one year and no more than 50 percent of all combined apprenticeship training requirements. DOL expects that participants will be enrolled one to two years prior to release. This model will require applicants to form formal partnerships with groups of employers, organized labor, employer associations, State Apprenticeship Agencies (SAAs), or the Federal Office of Registered Apprenticeship in those states where a SAA does not exist. Together, representatives of these partnerships will serve as the Advisory Council for the design and operation of this initiative.

The registered apprenticeship training developed is expected to produce skilled workers that are in demand in at least one high-growth, high-demand industry in those local area(s) where released offenders are expected to return. Such industries may include, but are not limited to, construction, healthcare, information technology, and biotechnology.

As part of a continuum of service delivery, it is expected that a seamless transition to post-release registered apprenticeship and supportive services will be accomplished. Upon release and through previously established coordination, participants will complete their registered apprenticeship training and enroll in an approved registered apprenticeship program. Direct job placement consistent with the individual offender's occupational goals will also be encouraged.

B. Alternative Educational Pathways

The Alternative Educational Pathways category will provide grants to start or enhance services to alternative and charter schools that serve youth ages 14 to 17 who have been involved in the juvenile justice system. DOL expects that grant award funds combined with leveraged funds will be sufficient to start an alternative or charter school that serves 100 youth the first year that can then be expanded in subsequent years using average daily attendance funds. Schools enhanced or started with these grant funds do not have to serve offender youth exclusively, but non-grant funds must be used to support non-offender youth in these schools. Schools started or enhanced with these grants funds must offer state-sanctioned high school diplomas. Requirements for these schools are described in section V.A.3. of this notice. Applicants that are not public school districts will need to demonstrate formal connections with their local school system. DOL envisions funding programs of various designs through these grants, but we expect that these schools will share the following attributes of strong and successful alternative education programs:

• Academic Instruction: Schools supported under these grants must offer state-recognized high school diplomas, and have a strong emphasis on improving reading and math skills of youth. The schools will offer particular support to youth who have low basic skills levels.

• Instructional Staff: Instructors in successful alternative education programs choose to be part of the program, routinely employ positive discipline techniques, and establish rapport with students and peers. They have high expectations of the youth, are certified in their academic content area, and are creative in their classrooms. They have a role in governing the school and designing the program and curriculum.

• Professional Development: Successful alternative education programs provide instructors with ongoing professional development activities that help them maintain an academic focus, enhance teaching strategies, and develop alternative instructional methods. Staff development involves teacher input, work with colleagues, and opportunities to visit and observe teaching in other settings.

• Size: Successful alternative education programs are small. They have a low teacher/student ratio and small classes that encourage caring relationships between youth and adults.

• Facility: Effective alternative learning programs are in clean and well-maintained buildings (not necessarily traditional school houses) that are attractive and inviting and that foster emotional well-being, a sense of pride, and safety. In some instances, the programs are purposely located away from other high schools in ‘neutral’ territory. Some reside on community college campuses and most are close to public transportation. Funds under this grant can pay for rent and limited renovations with grant officer approval, but not for new construction or purchasing a building.

• Relationships/Building a Sense of Community: Successful alternative education programs link to a wide variety of community organizations (cultural, social service, educational, etc.) and the business community to provide assistance and opportunities for participants. Through partnerships with the business community, alternative education providers are able to provide their students with job shadowing and internship opportunities, guest speakers, and company tours. They also receive valuable input into their curriculum and project development from these partners. Community organization partners can provide health care, mental health services, and cultural and recreational opportunities for youth in these schools.

• Leadership, Governance, Administration, and Oversight: Many studies highlight the need for administrative and bureaucratic autonomy and operational flexibility. Administrators, teachers, support services staff, students, and parents should be involved in the different aspects of the program. This autonomy builds trust and loyalty among the staff. A successful alternative education program has a strong, engaged, continuous, and competent leadership, preferably with a teacher/director administering the program.

• Student Supports: Successful alternative education programs support their students through flexible individualized programming with high expectations and clear rules of behavior. They provide opportunities for youth to participate and have a voice in school matters. Structure, curricula, and supportive services are designed with both the educational and social needs of the student in mind. Many schools do daily follow-up with all students who are absent or tardy, and develop reward systems to promote attendance and academic achievement. Programs are both highly structured and extremely flexible. Rules for the school, which the students help create, are few, simple, and consistently enforced. There are processes in place that assist students in transitioning from school to work and from high school to post-high school training.

• Other factors contributing to successful alternative education programs include clearly identified goals; the integration of research into practice in areas such as assessment, curriculum, and teacher training; the integration of special education services and ESL; connections with national organizations with local affiliations that support workforce development, academic support, and stable and diverse funding.

Applicants for a grant under this section may want to consider designs that include the following characteristics:

• Support to dropouts that augment existing high school classroom credit with college level courses resulting in dual high school and college level credit;

• Education and supportive services to participants that offer a rigorous literacy and student engagement program, targeting participants who read significantly below grade level and including a structured “restorative practices” approach that emphasizes structure and high expectations, as well as counseling and support;

• Classroom and vocational training structures that incorporates either an alternating week or alternating half-day schedules;

• Education and career programming organized around such themes as health, business and finance, and computer technology that support participants taking classes together, remaining with the same group of teachers/instructors over time, while providing a combination of academic and career-oriented courses, and offer participants the opportunity to work in internships and other career-related experiences with corporate sponsors; and

• Educational settings where the completion of high school is determined by proficiency, rather than by seat time and where teachers demonstrate for students how to apply learning strategies during related coursework and internships while assisting in the development of individual portfolios that capture and demonstrate student mastery.

Educational tools and approaches that applicants may also want to consider as part of their project design include:

• Educational software available from various commercial dealers designed specifically to increase the reading and math skills of low-performing students.

• Credit retrieval or recovery programs that make use of educational software available from various commercial dealers to allow students to make up lost credits while working towards a high school diploma.

• Education transition coordinators to help students resolve issues that may cause them to drop out of school, compile credits that may have been earned while in correctional facilities or other schools, apply to college, and make career plans.

C. Project Expansion

Currently there are program models and organizations that operate “cutting edge” youth development and training programs in one or more locations across the country. These programs often include integrated learning and training strategies that engage and prepare youth for the world of work, provide individual guidance and support to participants through caring adults, achieve high levels of program performance, and are led by dynamic and innovative leaders. Other key attributes include: meaningful work opportunities, including graduated transitional employment that allows youth to start with public subsidized jobs and work up to private sector unsubsidized jobs; access to an array of social support through other agencies, including help resolving child support issues, outstanding bench warrants, and substance abuse treatment; relevant and rigorous educational opportunities and support; and leadership development and community service learning opportunities.

The Employment and Training Administration is very interested in providing organizations that have been able to achieve outstanding outcomes in one or more existing program sites, an opportunity to further replicate their program model. The third part of the solicitation will provide applicants funding to expand proven and successful program models into additional communities to serve youth ages 14 to 21 who are involved, have been involved, or are at high risk of involvement in the juvenile justice system. Applicants are requested to propose replicating an existing model project in at least two additional sites. The implementing organization would be expected to provide leadership and technical assistance to the new sites as part of its overall responsibility for implementing this project, partner with a variety of educational, juvenile justice, and social service agencies, and provide a demand-driven focus that engages employers and high-growth industries within the new locations. Leveraged resources can be used to provide services not allowable with DOL grant funds.

Allowable uses of grant funds for youthful offender projects across all three categories are as follows:

(1) Education and workforce activities, such as:

• Basic skills instruction and remedial education;

• Language instruction educational programs for individuals with limited English proficiency;

• Tutoring, credit retrieval programs, dropout prevention activities, GED instruction, and career awareness classes;

• Counseling and assistance in obtaining postsecondary education and required financial aid ;

• Alternative secondary school services;

• Job placement services;

• Vocational skills training;

• Occupational skills training; and

• Paid and unpaid work experiences, including internships and job shadowing.

(2) Case management services and related activities, such as mentoring and comprehensive guidance and counseling on drug and alcohol abuse and referral;

(3) Participant personal development activities that seek to develop non-technical skills, abilities, and traits that participants need to function in a specific employment environment that support one or more workplace competencies including problem-solving and other cognitive skills, oral communication skills, personal qualities, and work ethic, and interpersonal and teamwork skills. Examples include leadership training, financial literacy, and job readiness training;

(4) Supportive housing, mental health and substance abuse referral services as may be available;

(5) The provision of stipends or need-based stipends necessary to enable individuals to participate in the program; and

(6) Follow-up services that focus efforts on job retention, wage gains and career progress through regular contact with participant employers, including assistance in addressing work-related problems that arise, assistance in securing better paying jobs, career development and further education, work-in peer support groups, adult mentoring, and tracking of progress made by participants in employment after training.

II. Award Information

A. Award Amount

Funding for the three categories of awards is expected to be as follows: Registered apprenticeship, four grants at $1 million each; Alternative Educational Pathways, six grants at $1 million each; and Expansion, five grants at $2 million each. Applicants are required to submit budgets within this financial range. The budget should reflect a phased approach that anticipates a planning period of up to 6 months followed by 12 full months of project operations and service delivery. Each grant may receive additional years of funding depending on the availability of such funds and satisfactory performance. At the Department's discretion, no-cost extensions maybe granted. If an insufficient number of acceptable applications are received for any category of award, the Department may decide to fund additional awards in another category.

B. Period of Performance

Grants will be awarded for an 18 month period of performance. This period of performance includes a 90-day planning period prior to project implementation and 12 full months of direct service delivery.

III. Eligibility Information and Other Grant Specifications

A. Eligible Applicants

Registered Apprenticeship: Applicants may be faith-based and community organizations, national community-based organizations, State Apprenticeship Agencies, state workforce agencies, local workforce investment boards, state correctional agencies, Indian/Native American, Native Hawaiian, Alaskan Native and Pacific Islander Tribal Governments or organizations that are Federally recognized.

Alternative Educational Pathways: Applicants may be public school districts, faith-based and community organizations currently operating or wishing to operate charter schools, state or local juvenile justice agencies, local workforce investment boards, Indian/Native American, Native Hawaiian, Alaskan Native and Pacific Islander, Tribal Governments or organizations that are Federally recognized.

Project Expansion: Applicants may be national or local community and faith-based organizations, local workforce investment boards, Indian/Native American, Native Hawaiian, Alaskan Native and Pacific Islander Tribal Governments or organizations that are federally recognized.

B. Cost Sharing or Matching

For all three categories, leveraged resources must equal at least 20 percent of the requested amount. These resources can be Federal and non-Federal and can be in-kind or cash. Applicants will be rated on both the quality and the amount of leveraged resources. Leveraged resources can come from a variety of sources, including: Public sector (e.g., Federal, state, or local governments); non-profit sector (e.g., community organizations, faith-based organizations, or education and training institutions); private sector (e.g., businesses or industry associations); investor community (e.g., angel networks); philanthropic community; and the economic development community. Applicants must describe in detail how such leveraged funds will be used and demonstrate how these funds will contribute to the goals of the project.

C. Other Eligibility Requirements

Eligible Enrollees

Registered Apprenticeship: An individual may participate in a registered apprenticeship-focused project only if such individual is:

• Between the ages of 18 and 24 on the date of enrollment; and

• Incarcerated in a state adult correctional facility with at least one year remaining on their sentence.

Alternative Educational Pathways: An individual may participate in an alternative educational pathways project only if such individual is:

• Between the ages of 14 and 17 on the date of enrollment; and

• Is returning from a juvenile detention or juvenile correctional facility, is on probation through the juvenile justice system, or has previously been detained or put on probation through the juvenile justice system.

Expansion: An individual may participate in an expansion project if such individual:

• Is between the ages of 14 to 21 at enrollment; and

• Is involved, has been involved, or is at high risk of involvement in the juvenile justice system. For the purposes of eligibility for services under this category, indicators of high risk of involvement in the juvenile justice system include poor school attendance; low grade point average; low standardized test scores; retention in the 8th, 9th, 10th, or 11th grades; discipline problems or suspension from school; special education placement; and low reading and math skills.

Legal Rules Pertaining to Inherently Religious Activities by Organizations that Receive Federal Financial Assistance. The government is generally prohibited from providing direct financial assistance for inherently religious activities. See 29 CFR Part 2, Subpart D. Provision relating to the use of indirect support (such as vouchers) are at 29 CFR 2.33(c) and 20 CFR 667.266. These grants may not be used to directly support religious instruction, worship, prayer, proselytizing or other inherently religious practices. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

D. Veterans Priority

This program is subject to the provisions of the “Jobs for Veterans Act,” Public Law 107-288, which provides priority of service to veterans and spouses of certain veterans for the receipt of employment, training, and placement services in any job training program directly funded, in whole or in part, by the Department of Labor. Please note that to obtain priority of service, a veteran must meet the grantee's program eligibility requirements. ETA Training and Employment Guidance Letter (TEGL) No. 5-03 (September 16, 2003), available at: http://wdr.doleta.gov/directives/corr_cfm?DOCN=1512, provides general guidance on the scope of the veterans priority statute and its effect on current employment and training programs.

IV. Application and Submission Information

A. Address to Request Application Package

This SGA contains all of the information and links to forms needed to apply for grant funding.

B. Content and Form of Application Submission

The proposal will consist of two separate and distinct parts—a cost proposal and a technical proposal. Applications that fail to adhere to the instructions in this section will be considered non-responsive and will not be considered.

Part I. The Cost Proposal. The Cost Proposal must include the following three items:

• The Standard Form (SF) 424, “Application for Federal Assistance” (available at http://www.whitehouse.gov/omb/grants/sf424.pdf). The SF 424 must clearly identify the applicant and be signed by an individual with authority to enter into a grant agreement. Upon confirmation of an award, the individual signing the SF 424 on behalf of the applicant shall be considered the representative of the applicant.

• All applicants for Federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this website: www.dunandbradstreet.com or call 1-866-705-5711.

• The SF 424A Budget Information Form (available at http://www.whitehouse.gov/omb/grants/sf424a.pdf). In preparing the Budget Information Form, the applicant must provide a detailed backup budget for both the planning and service delivery periods in addition to the narrative explanation in support of the request. The budget narrative should break down the budget and leveraged resources by project activity, should discuss cost-per-participant, and should discuss precisely how the administrative costs support the project goals. Applicants can budget up to 10% of grant funds for use during the planning period prior to the actual implementation of the project's service delivery strategy. Administrative costs do not need to be identified separately from program costs on the SF 424A Budget Information Form.

Please note that applicants who fail to provide a SF 424, SF 424A and/or a budget narrative will be removed from consideration prior to the technical review process. If the proposal calls for integrating WIA or other Federal funds or includes other leveraged resources, these funds should not be listed on the SF 424 or SF 424A Budget Information Form, but should be described in the budget narrative and in Part II of the proposal. The amount of Federal funding requested for the entire period of performance should be shown on the SF 424 and SF 424A Budget Information Form. Applicants are also encouraged, but not required, to submit OMB Survey N. 1890-0014: Survey on Ensuring Equal Opportunity for Applicants, which can be found at http://www.doleta.gov/sga/forms.cfm.

Part II. The Technical Proposal. The Technical Proposal will demonstrate the applicant's capability to plan and implement a project consistent with the application category selected and in accordance with the provisions of this solicitation. The guidelines for the content of the Technical Proposal are provided in Part V Section A of this SGA. The Technical Proposal is limited to twenty (20) double-spaced single-sided pages with 12 point text font and one-inch margins. Any pages submitted in excess of this 20 page limit will not be reviewed. In addition, the applicant must provide an organization chart for staff that will operate the proposed project. In instances where the project is part of a larger organization (i.e. a lead human services agency), please include a diagram that indicates where the proposed project will fit within the larger organization. Also, the applicant must provide a timeline outlining project activities; a two-page Abstract summarizing the proposed project including applicant name, project title, and the funding level requested. These additional materials do not count against the 20-page limit for the Technical Proposal, but may not exceed fifteen (15) pages.

Applicants submitting proposals in hard-copy must submit an original signed application (including the SF-424) and one (1) “copy-ready” version free of bindings, staples or protruding tabs to ease in the reproduction of the proposal by DOL. Applicants submitting proposals in hard-copy are also requested, though not required, to provide an electronic copy of the proposal on CD-ROM.

C. Submission Date, Times, and Addresses

The closing date for receipt of applications under this announcement is May 31, 2007. Applications must be received at the address below, or electronically received at the website below, no later than 5 p.m. (Eastern Daylight Saving Time), except as identified in the “Late Applications” paragraph below. Applications sent by mail, e-mail, telegram, or facsimile (fax) will not be accepted. Applications that do not meet the conditions set forth in this notice will not be honored. No exceptions to the requirements set forth in this notice will be granted.

Mailed applications must be addressed to the U.S. Department of Labor, Employment and Training Administration, Division of Federal Assistance, Attention: James W. Stockton, Reference SGA/DFA PY 06-10, 200 Constitution Avenue, NW., Room N-4716, Washington, DC 20210. Applicants are advised that mail delivery in the Washington area may be delayed due to mail decontamination procedures. Hand-delivered proposals will be received at the above address. Applicants may apply online at http://www.grants.gov by the deadline specified above. Any application received after the deadline will not be accepted. For applicants submitting electronic applications via Grants.gov, please note that it may take several days to complete the “Get Started” step to register with Grants.gov. It is strongly recommended that these applicants immediately initiate this step in order to avoid unexpected delays that could result in the disqualification of their application. If submitted electronically through http://www.grants.gov, applicants should save applications documents as a .doc or .pdf file. It is the sole responsibility of the applicant to ensure timely submission.

Late Applications: Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on Grants.gov to the addressee not later than one working day prior to the date specified for receipt of applications. It is highly recommended that online submissions be completed one working day prior to the date specified for receipt of applications to ensure that the applicant still has the option to submit by overnight delivery service in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

Applications may be withdrawn by written notice or telegram (including mailgram) received at any time before an award is made. Applications may be withdrawn in person by the applicant or by an authorized representative thereof, if the representative's identity is made known and the representative signs a receipt for the proposal.

C. Intergovernmental Review

This funding opportunity is not subject to Executive Order (EO) 12372, “Intergovernmental Review of Federal Programs.”

D. Funding Restrictions

All proposal costs must be necessary and reasonable in accordance with Federal guidelines. Determinations of allowable costs will be made in accordance with the applicable Federal cost principles, e.g., Non-Profit Organizations—OMB Circular A-122. Disallowed costs are those charges to a grant that the grantor agency or its representative determines not to be allowed in accordance with the applicable Federal Cost Principles or other conditions contained in the grant. Applicants will not be entitled to reimbursement of pre-award costs.

Indirect Costs. As specified in OMB Circulars on Cost Principles, indirect costs are those that have been incurred for common or joint objectives and cannot be readily identified with a particular cost objective. In order to utilize grant funds for indirect costs incurred, the applicant must obtain an Indirect Cost Rate Agreement with its Federal Cognizant Agency either before or shortly after the grant award. The Federal Cognizant Agency is generally determined based on the preponderance of Federal dollars received by the recipient.

Administrative Costs. An entity that receives a grant to carry out a project or program may not use more than 15 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an Indirect Cost Rate Agreement from its Federal Cognizant Agency as specified above.

V. Application Review Information

A. Evaluation Criteria

This section identifies and describes the criteria that will be used to evaluate proposals submitted. These criteria and point values are:

Criterion | Points
1. Statement of Need | 15
2. Program Management and Organizational Capacity | 20
3. Project Design, Service Strategy, and Program Outcomes | 50
4. Linkages to Key Partners, Leveraged Resources, and Sustainability | 15
Total Possible Points | 100

The rated components listed above make up the Technical Proposal (along with the additional requirements listed in section IV. B).

1. Statement of Need (15 points)

Registered Apprenticeships:

• Describe the need in the communities to which most of the prisoners enrolled in the program will be returned.

• Discuss the poverty rate, unemployment rate, and crime rate in these communities.

Alternative Educational Pathways:

• Describe the need in the communities that will be served by the proposed project.

• Discuss the level of success local schools have experienced in complying with the requirements of the No Child Left Behind Act of 2001.

• Provide the most recent cohort dropout rate for the comprehensive high school that serves the community to be served by comparing the number of students who entered the 9th grade at the high school in September 2002 with the number of students in the graduating class at the high school in June 2006.

• Provide the poverty rate, unemployment rate, and crime rate of the community to be served.

Project Expansion:

• Describe the need for this project in the communities to be served.

• Provide the poverty rate, unemployment rate, and crime rate of the communities to be served.

Proposals in all three categories will be evaluated under this criterion based on:

• The case that they make for the need for the project in the communities to be served, which for the apprenticeship category are the communities to which most prisoners served will be returned.

• The poverty rate, unemployment rate, and crime rate of these communities, and in the case of the alternative educational pathways category the dropout rate of the comprehensive high school that serves the community.

2. Program Management and Organizational Capacity (20 points)

Registered Apprenticeships and Alternative Educational Pathways:

• Provide a description of the organization applying for the grant and a statement of its qualifications for conducting this project, including years of operation, current annual budget, experience of staff, continuity of leadership and the relevant experience of management.

• Discuss the professional development activities available to staff, either on-site or through training funds.

• Describe any previous projects similar to the proposed apprenticeship or alternative education pathways demonstration that the organization has successfully conducted.

• Describe the fiscal controls in place in your organization for auditing and accountability procedures, and the organizations track record for fiscal integrity.

Project Expansion:

• Describe project leadership skills, staff qualifications, and overall capacity to implement project expansion into other communities.

• Describe any previous projects similar to this project expansion demonstration that the organization has successfully conducted.

• Describe any previous efforts of the organization to establish multiple partnerships with public and private sector organizations.

• Describe the fiscal controls in place in your organization for auditing and accountability procedures; and the organizations track record for fiscal integrity.

Proposals in all three categories will be evaluated under this criterion based on:

• The capacity of the organization and staff to effectively carry out this project, particularly as demonstrated by past success in conducting similar projects.

• The sound fiscal management procedures of the organizations, particularly as demonstrated by a consistent record of fiscal integrity.

3. Project Design, Key Partners, Service Strategy, and Program Outcomes (50 points)

Registered Apprenticeship:

• Describe the apprenticeship training program that will be started with these grant funds, specifying the occupations that will be the focus of the program.

• Identify the unions and/or employers that will be the sponsoring agency(ies) for the registered apprenticeship program, and provide a memorandum or understanding or letter from these unions or employers indicating that they will be the sponsoring agencies for the project.

• Describe the experience of the sponsoring agency(ies) in conducting apprenticeship training, including any currently operating apprenticeship training that they are providing.

• Identify the firms and unions that will serve on the advisory council for the apprenticeship program, and provide letters from these firms and unions indicating that they will serve on the advisory council.

• Provide the number of expected registered apprenticeship participants the project will enroll during the initial year of the grant, and the number of participants who will complete the combined pre-release and post-release phases of their apprenticeship training.

• Identify the number of individuals that will be served by this program when fully operational.

• Identify how inmates will be selected for the registered apprenticeship program, and at what point prior to release they will be enrolled in the program.

• Describe the characteristics of the inmates the project expects to serve.

• Describe the state correctional institution where the registered apprenticeship program will be started.

• Describe the steps that will be taken to implement this program, including a time-line for project implementation.

• Describe the skill shortages in the communities to which most of the prisoners enrolled in the program will be returned.

• Describe the availability of placement slots in registered apprenticeship program(s) in those communities where offenders are likely to return; i.e., compare the number of slots with the number of applicants for these slots.

• Describe the specific role of the sponsoring agencies in the proposed program, including how the sponsoring agencies will ensure a placement in the post-release phase of the apprenticeship for all individuals who completed the pre-release phase of the apprenticeship.

• Describe the types of post-release transition services (defined as services that will assist the participant in making a successful transition from the pre-release to the post-release phases of the apprenticeship) that will be provided.

• Describe the types of post-transition follow-up services that will be provided.

Alternative Educational Pathways:

• If an alternative or charter school will be started with grant funds, describe the key features of the planned school. If an alternative or charter school will be enhanced with grant funds, clearly delineate the current offerings of the school and what enhancements will be made.

• Discuss how the local juvenile justice system will be a partner in this project, and include a memorandum of understanding or letter from the juvenile justice system describing their role in the project.

• If the applicant is not a public school district, indicate how the public school system will coordinate with the project, and include a memorandum of understanding or letter from the school district describing their role in the project.

• Discuss how youth will be referred from the juvenile justice system to the school.

• Identify the number of individuals that will be served by this program when fully operational.

• Describe the characteristics of the youth the project expects to serve.

• Describe the educational barriers faced by the youth who will be served, and which program components will address these educational barriers.

• Describe the intensive remedial reading and math component that will be provided, given that youth offenders are on average below grade level in these subjects.

• Describe how the school will provide a structured environment for youth that promotes high expectations among both staff and students.

• Describe how staff will be selected for the school, ensuring that the staff are selected competitively and desire to be assigned to the school.

• Discuss plans for accessing average daily attendance funds to help support the school.

• If a school will be started with grant funds, provide a timeline and the steps needed to get the school started.

• If non-offender youth are attending or will attend the school, discuss what complementary funds will be provided to cover the share of services being provided to these youth.

Expansion:

• Provide a basic description of the program to be replicated.

• Utilizing a minimum cohort of 50 participants, provide information that will demonstrate project effectiveness in the following workforce related outcomes:

• Unsubsidized full-time employment

• Placement in post secondary institutions

• High school diploma and/or GED attainment

• Provide a detailed outline the major components leading to full project replication inclusive of major milestones and over-all project timeline.

• Describe what efforts will be undertake to establish workforce, justice system, community, business and school-based partnerships sufficient to support project expansion.

• Describe the organization's commitment to implementing this project expansion.

• Provide a plan and describe the short-term and on-going technical assistance that will be provided to the additional project sites.

• Describe how enrollees will be referred to the expansion project sites.

• Indicate how many individuals will be served at expansion sites during the initial year of the project, and how many will be served each year when the expansion sites are fully mature.

Proposals in all three categories will be evaluated under this criterion based on:

• The quality of the proposed design, including its practicality and its potential for having a positive impact on persons to be served.

• The likelihood that the proposed project will be implemented successfully, as indicated by the extent to which the applicant demonstrates that it has thought through how it will implement the project and in the case of the apprenticeship and alternative education categories has in place the necessary partnerships to start the project. Applicants for the expansion category are not expected to have necessary partnerships in place.

4. Linkages to Additional Partners, Leveraged Resources, and Sustainability (15 points)

All applicants:

• Describe the additional partners that will be supporting the proposed project other than those required in the above section. Successful grantees will have strong collaborations with business and industry, other education institutions, and the workforce investment system at a minimum.

• Include as an attachment letters of commitment from these additional partners.

• Describe what leveraged resources are being contributed to the project. Leveraged resources must amount to a minimum of 20 percent of the requested grant award for all applications. The description of leveraged resources must be supported by explicit MOUs or letters of commitment and describe the resource amount and type (in-kind, cash, etc.).

• Describe plans for sustaining the project after DOL grant funds cease.

Proposals in all three categories will be evaluated under this criterion based on:

• The quality of collaborations with partners such as business and industry, education institutions, and the workforce investment system.

• The amount and quality of leveraged resources.

• How detailed and plausible a case is made for the sustainment of the project after DOL grant funds cease.

B. Review and Selection Process

Proposals that are timely and responsive to the requirements of this SGA will be rated against the criteria listed above by an independent panel comprised of representatives from DOL and other peers. Each of the three categories will be rated separately. The ranked scores will serve as the primary basis for selection of applications for funding, in conjunction with other factors such as urban, rural, and geographic balance; the availability of funds; and which proposals are most advantageous to the Government. The panel results are advisory in nature and not binding on the Grant Officer, and the Grant Officer may consider any information that comes to his/her attention. If an insufficient number of acceptable applications are received for any category of award, the Department may decide to fund additional awards in another category. The Government may elect to award the grant(s) with or without discussions with the applicants. Should a grant be awarded without discussions, the award will be based on the applicant's signature on the SF 424, which constitutes a binding offer by the applicant (including electronic signature via E-Authentication on http://www.grants.gov).

C. Anticipated Announcement and Award Dates

The anticipated date of announcement and award is June 30, 2007.

VI. Award Administration Information

A. Award Notices

All award notifications will be posted on the ETA homepage (http://www.doleta.gov). Applicants selected for award will be contacted directly before the grant's execution. The notice of award signed by the Grants Officer will serve as the authorizing document. Applicants not selected for award will be notified by mail.

B. Administrative and National Policy Requirements

1. Administrative Program Requirements

All grantees, including faith-based organizations, will be subject to all applicable Federal laws (including provisions of appropriation laws), regulations, and the applicable OMB Circulars. The grant(s) awarded under this SGA must comply with all provisions of this solicitation and will be subject to the following statutory and administrative standards and provisions, as applicable to the particular grantee:

1. 20 Code of Federal Regulations (CFR) 667.220, administrative costs;

2. Non-Profit Organizations—OMB Circular A-122 (cost principles) and 29 CFR part 95 (administrative requirements);

3. Educational Institutions—OMB Circular A-21 (cost principles) and 29 CFR part 95 (administrative requirements);

4. State, local and Indian Tribal—OMB Circular A-87 (cost principles) and 29 CFR part 97 (administrative requirements);

5. All entities must comply with 29 CFR parts 93 and 98 and, where applicable, 29 CFR parts 96 and 99;

6. In accordance with Section 18 of the Lobbying Disclosure Act of 1995, Public Law 104-65 (2 U.S.C. 1611), non-profit entities incorporated under Internal Revenue Service Code section 501(c)(4) that engage in lobbying activities are not eligible to receive Federal funds and grants;

7. 29 CFR part 2, subpart D—Equal Treatment in Department of Labor Programs for Religious Organizations; Protection of Religious Liberty of Department of Labor Social Service Providers and Beneficiaries;

8. 29 CFR part 30—Equal Employment Opportunity in Registered Apprenticeship and Training;

9. 29 CFR part 31—Nondiscrimination in Federally Assisted Programs of the Department of Labor—Effectuation of Title VI of the Civil Rights Act of 1964;

10. 29 CFR part 32—Nondiscrimination on the Basis of Handicap in Programs and Activities Receiving or Benefiting from Federal Financial Assistance;

11. 29 CFR part 33—Enforcement of Nondiscrimination on the Basis of Handicap in Programs or Activities Conducted by the Department of Labor;

12. 29 CFR part 35—Nondiscrimination on the Basis of Age in Program or Activities Receiving Federal Financial Assistance from the Department of Labor;

13. 29 CFR part 36—Nondiscrimination on the Basis of Sex in Education Programs or Activities Receiving Federal Financial Assistance;

14. 29 CFR part 37—Implementation of the Nondiscrimination and Equal Opportunity Provisions of the Workforce Investment Act of 1998 (WIA);

15. 29 CFR part 1926, Safety and Health Regulations for Construction of the Occupational Safety and Health Act (OSHA); and

16. 29 CFR part 570, Child Labor Regulations, Orders and Statements of Interpretation of the Employment Standard Administration's Child Labor Provisions.

Note: Except as specifically provided in this Notice, DOL/ETA's acceptance of a proposal and award of Federal funds to sponsor any program(s) do not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

2. Special Program Requirements

Evaluation. DOL may require that the program or project participate in an evaluation. To measure the impact of the project, DOL may arrange for or conduct an independent evaluation of the outcomes and benefits of the project. The grantee must agree to make records on participants, employers and funding available, and to provide access to program operating personnel and participants, as specified by the evaluator(s) under the direction of DOL, including after the expiration date of the grant.

ETA Intellectual Property Rights. Applicants should note that grantees must agree to provide DOL/ETA a fully paid, nonexclusive and irrevocable license to reproduce, publish, or otherwise use for Federal purposes all products developed or for which ownership was purchased under an award, including but not limited to curricula, training models, technical assistance products, and any related materials. Such uses include, but are not limited to, the right to modify and distribute such products worldwide by any means, electronically or otherwise.

C. Reporting and Accountability

The Registered Apprenticeship grants will be accountable for the adult WIA core measures including placements, earnings change, and retention. Alternative Educational Pathways grants will be accountable for the youth common measures including reading and math gains and educational attainment. Project expansion grants will be subject to performance measures based upon project focus.

Quarterly financial reports, quarterly progress reports, and MIS data will be submitted by the grantee electronically. Grantees must agree to meet DOL reporting requirements. The grantee is required to provide the reports and documents listed below:

Quarterly Financial Reports. A Quarterly Financial Status Report (SF 269) is required until such time as all funds have been expended or the grant period has expired, whichever is sooner. Quarterly reports are due 30 days after the end of each calendar year quarter. Grantees must use ETA's On-Line Electronic Reporting System; information and instructions will be provided to grantees.

Quarterly Progress Reports. The grantee must submit a quarterly progress report based on a DOL template to its designated Federal Project Officer within 30 days after the end of each quarter. This report should provide a detailed account of activities undertaken during that quarter. The quarterly progress report should be in narrative form and should include:

1. In-depth information on accomplishments, including project success stories, upcoming grant activities, and promising approaches and processes.

2. Progress toward performance outcomes, including updates on product, curricula, and training development.

MIS Reports. Organizations will be required to submit updated MIS data based on a DOL template that reports on enrollment, services provided, placements, outcomes, and follow-up status.

VII. Agency Contacts

For further information regarding this SGA, please contact B. Jai Johnson, Grants Management Specialist, Division of Federal Assistance, at (202) 693-3296 (please note this is not a toll-free number). Applicants should fax all technical questions to (202) 693-2705 and must specifically address the fax to the attention of B. Jai Johnson and should include SGA/DFA PY 06-10, a contact name, fax and phone number, and e-mail address. This announcement is being made available on the ETA Web site at http://www.doleta.gov/sga/sga.cfm, at http://www.grants.gov, and in the Federal Register.

VIII. Additional Resources and Other Information

A. Resources for the Applicant

DOL maintains a number of web-based resources that may be of assistance to applicants:

• Questions and responses submitted to the Grant Officer regarding the SGA will be posted on the Employment and Training website at http://www.doleta.gov. Questions will be received for one month after publication.

• The Web site for the Employment and Training Administration (http://www.doleta.gov) is a valuable source for background information on the President's High Growth Job Training Initiative.

• The Workforce ³ One Web site (http://www.workforce3one.org) is a valuable resource for information about demand driven projects of the workforce investment system, educators, employers, and economic development representatives.

• America's Service Locator (www.servicelocator.org) provides a directory of the nation's One-Stop Career Centers.

• Career Voyages (www.careervoyages.com), a Web site targeted at youth, parents, counselors, and career changers, provides information about career opportunities in high-growth/high-demand industries.

• Applicants are encouraged to review “Help with Solicitation for Grant Applications” (http://www.dol.gov/cfbci/sgabrochure.htm).

• For a basic understanding of the grants process and basic responsibilities of receiving Federal grant support, please see “Guidance for Faith-Based and Community Organizations on Partnering with the Federal Government” (http://www.whitehouse.gov/government/fbci/guidance/index.html).

B. Other Information

OMB Information Collection No.: 1205-0458.

Expires: September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. Please do not return your completed application to the OMB. Send it to the sponsoring agency as specified in this solicitation.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

James W. Stockton,
Grant Officer, Employment and Training Administration.

[FR Doc. E7-8345 Filed 5-1-07; 8:45 am]

BILLING CODE 4510-FT-P